DEPARTMENT OF LABOR

Employment and Training Administration

Notice of Availability of Funds and Solicitation for Grant Applications (SGAs) for the Purpose of Training Child Care Providers

SUMMARY: This notice contains all of the necessary information and forms needed to apply for grant funding. The Department of Labor, Employment and Training Administration, Bureau of Apprenticeship and Training, invites proposals for approximately ten (10) awards for the implementation of the Quality Child Care Initiative. It will assist with the initiation of building a national system for the education and training of professional child care providers and expand the National Apprenticeship System by incorporating diversification of occupational entities through development of new and innovative strategies for increasing the participation among the child care industry.

DATES: Applications will be accepted commencing on the date of publication. The closing date for receipt of applications is July 12, 2000, at 4 P.M., (Eastern Time ) at the address below. Telefacsimile (FAX),Ttelegraphed, or Electronic Applications will not be honored.

ADDRESSES: Applications shall be mailed to the U.S. Department of Labor, Employment and Training Administration, Division of Federal Assistance, Attention: Reda Harrison, Reference: SGA/DFA 00-106, 200 Constitution Avenue, NW, Room S-4203, Washington, DC 20210.

FOR FURTHER INFORMATION: Questions should be faxed to Reda Harrison, Grants Management Specialist, Division of Federal Assistance, Fax 202-219-8739. This is not a toll-free number. All inquiries should include the SGA number (DFA 00-106) a contact name, fax and phone numbers. This solicitation will also be published on the Internet on the Employment and Training Administration's Home Page at http://www.doleta.gov. Award notifications will also be published on this Home Page.

Quality Child Care Initiative Solicitation

I. Purpose

To invite proposals for providing a credentialed career path for development of professional child care providers through the utilization of the National Registered Apprenticeship System; which will reduce turnover, increase wages for providers, provide a more stable environment for children and lower the concern of parents.

II. Background

The Child Care Industry is in trouble. A 1989 study by the National Center of Early Childhood Workforce found that the quality of services provided by most day care centers was rated as “barely adequate,” and a more recent four-State study by the University of Colorado, at Denver, found that only 14 percent of child care centers were rated as good quality. In addition, child care workers are faced with relatively low wages, inadequate benefit coverage and high job turnover.

On October 23, 1997, President and Mrs. Clinton hosted the White House Conference on Child Care to focus the Nation's attention on the importance of addressing the need for safe, affordable, available and quality child care. Integral to providing the “right” care is the quality of the child care worker.

Quality child care service goes hand in glove with having an adequate supply of competent, professional child care providers. This requires enhanced training opportunities and a redefinition of the basic concept of what constitutes a child care provider. A national focus on accreditation demands that practitioners have access to education and training that will promote professional development. As the field of early care and education becomes established as a profession, practitioners are required to master basic knowledge, skills and core competencies of early childhood development. As professionals, practitioners must develop practical knowledge that will enable them to apply new approaches and strategies for working effectively with young children.

III. Statement of Work

As our society continues to evolve and demands are placed on parents to secure full time job/careers, the need for safe, affordable, available and quality child care has been brought to the forefront. Utilization of the National Apprenticeship System can provide needed training for early care and education practitioners. High quality training has the potential to change the culture of the child care industry from one dominated by low pay and high turnover to one of respected professional service. No longer would child care be equated to baby-sitting.

The apprenticeship model validates the integral part that child care plays in the economy, as working families rely on dependable, accessible care for their children. As families move from welfare to work, additional sources of training child care providers are in demand.

Note: All applicants are expected to provide information relative to the projected number of participants (i.e., employers, apprentices and the diverse make-up of the participants).

The major tasks of this project will be, but not limited, to the following:

• System and capacity-building by incorporating in a collaborative spirit organizations, agencies, employers, associations and higher education (i.e., State Child Care Association, State Head Start Association, State Early Childhood Professional Associations , School Age Care, Black Child Development Institution, State Family Child Care Associations, State Head Start Collaboration Directors, Post Secondary Institutions, Child Care Resource and Referral Agencies, Registered Apprenticeship Representative), to develop a vision for implementation of an individual statewide sustainable infrastructure built upon successful registered apprenticeship and best practice models;

• From the above activity, establishment of an oversight body to provide direction and guidance to the vision, utilizing the services of an Apprenticeship and Training Representative.

• Utilization of an established curriculum or development of a curriculum based on developmentally appropriate inclusive practices for young children and an interactive adult education teaching approach that is effective for adult learners.

• Adoption of or establishment of a train-the-trainer system that will ensure the availability of knowledgeable, experienced, skilled instructors for the related instruction course work;

• Development of a process to promote career lattice for those graduates of the registered apprenticeship system (i.e., articulation into an Associates Degree or higher);

• Ensuring the inclusion of those with other nationally recognized credentials such as the Child Development Associate (CDA) through previous credit for documented prior experience;

• Demonstration of in-kind support from institutions involved in the process (i.e., time spent to facilitate and foster the process and/or free facilities to conduct related instruction);

• Development and implementation of a strategy or strategies to ensure inclusion of practitioners representing diversity of culture, ethnicity, gender and ability;

• Development of policies, procedures and formulas to ensure the consistency and integrity of system implementation and beyond. The system will be sustainable and ownership established, if the process is followed throughout the state.

IV. Application Process

Eligible Applicants: Those eligible to apply are as follows: States that have a State Apprenticeship Agency (SAA); State Agencies designated by the Governor; Governor's Early Childhood Initiative; and other State Agencies with responsibility for child care regulations or funding. Only one proposal will be accepted per State; and for States without an SAA, a letter from the Governor designating the agency must accompany the proposal. Those awardees who received Child Care Initiative awards in 1999 are not eligible to compete for this procurement.

V. Application Submittal

Applicants must submit four (4) copies of their proposal, with original signatures. The application shall be divided into two distinct parts: Part I—which contains Standard Form (SF) 424, “Application for Federal Assistance,” (Appendix A) and “Budget Information Sheet,” (Appendix B). All copies of the SF 424 MUST have original signatures of the legal entity applying for grant funding. Applicants shall indicate on the SF 424 the organization's IRS Status, if applicable. According to the Lobbying Disclosure Act of 1995, Section 18, an organization described in Section 501(c) 4 of the Internal Revenue Code of 1986 which engages in lobbying activities shall not be eligible for the receipt of federal funds constituting an award, grant, or loan. The Catalog of Federal Domestic Assistance (CFDA) number is 17.249. In addition, the budget shall include—on a separate page(s)—a detailed cost break-out of each line item on the Budget Information Sheet. Part II shall contain the program narrative that demonstrates the applicant's plan and capabilities in accordance with the evaluation criteria contained in this section. Applicants must describe their plan in light of each of the Evaluation Criteria. Applicants MUST limit the program narrative section to no more than 30 double-spaced pages, on one side only. This includes any attachments. Applications that fail to meet the page limitation requirement will not be considered.

VI. Late Applications

Any application received after the exact date and time specified for receipt at the office designated in this notice will not be considered, unless it is received before awards are made and it—(a) was sent by U.S. Postal Service registered or certified mail not later than the fifth calendar day before the date specified for receipt of applications (e.g., an application submitted in response to a solicitation requiring receipt of applications by the 20th of the month must have been mailed/post marked by the 15th of that month); or (b) was sent by the U.S. Postal Service Express Mail Next Day Service to addressee not later than 5 P.M. at the place of mailing two working days prior to the date specified for receipt of applications. The term “working days” excludes weekends and Federal holidays. “Post-marked” means a printed, stamped or otherwise placed impression (exclusive of a postage meter machine impression) that is readily identifiable, without further action, as having been supplied or affixed on the date of mailing by an employee of the U.S. Postal Service.

VII. Withdrawal of Applications

Applications may be withdrawn by written notice or telegram (including mail gram) received at any time before an award is made. Applications may be withdrawn in person by the applicant or by an authorized representative thereof, the representative's identity is made known and representative signs a receipt of the proposal.

VIII. Hand Delivered Proposals

It is preferred that applications be mailed at least five days prior to the closing date. To be considered for funding, hand-delivered applications must be received by 4 P.M., (Eastern Time), July 12, 2000, at the specified address. Failure to adhere to the above instructions will be a basis for a determination of nonresponsiveness. Overnight express mail from carriers other than the U.S. Postal Service will be considered hand-delivered applications and must be received by the above specified date and time.

IX. Funding Availability and Period of Performance

The Department expects to make up to 10 awards with a maximum total investment for these projects of $3.5 million. The estimated range of awards is to be from $175,000 to $350,000. The period of performance will be for 18 months from the date of execution.

X. Review Process

A careful evaluation of applications will be made by a technical review panel who will evaluate the applications against the criteria listed below. The panel results are advisory in nature and not binding on the Grant Officer. The Government may elect to award the grant with or without discussions with the offeror. In situations without discussions, an award will be based on the offeror's signature on the SF 424, which constitutes a binding offer. Those awards made will be in the best interests of the Government.

Evaluation Criteria

A. System and Capacity Building—The extent to which the offeror has delineated collaboration strategies to develop a vision and implementation plan for a statewide infrastructure utilizing the registered apprenticeship system of training and forecast of implementation. (25 points)

B. Sustainability—Plan for long term viability of the system after this funding ends. (15 points)

C. Curriculum—Delineation of utilization or development of curriculum based on developmentally appropriate inclusive practices for young children and an interactive adult educational component for effective adult learners and a forecast of implementation. (15 points)

D. Career Lattice—Describe the process for inclusion of participants with documented prior experience linked with substantial increases in compensation and next steps for apprenticeship graduates in the process (awarding of college credit and articulation with higher education). (20 points)

E. Diversity—Outline the strategy or strategies developed to ensure inclusion of participants representing diversity of culture, ethnicity, gender and ability (i.e., projected number of employers and apprentices) and a forecast of implementation. (15 points)

F. Consistency and Integrity—Delineation of the policies, procedures, and formulas developed to ensure consistency and integrity of the statewide system. (10 points)

XI. Reporting Requirements

• Attendance to a post award orientation briefing (i.e., time and place to be announced), where BAT will reiterate and delineate the overall desired outcomes of the project;

• Detailed work plan, budget, and schedule within 30 days of grant award;

• Quarterly Status Reports within 30 days of quarters end;

• Monthly cost vouchers;

• Final report on completed tasks and specific recommendations for future grants for Child Care Initiatives, no later than 45 days following the end of the grant.

Signed in Washington, DC, the 5th of May, 2000.
Laura A. Cesario,
Grant Officer, Division of Federal Assistance.

BILLING CODE 4510-30-P

[FR Doc. 00-11977 Filed 5-11-00; 8:45 am]

BILLING CODE 4510-30-C